DEPARTMENT OF AGRICULTURE

Natural Resources Conservation Service

Southern Washington County Watershed Protection Project; Washington County, ID

AGENCY: Natural Resources Conservation Service, USDA.

ACTION: Notice of a Finding of No Significant Impact.

SUMMARY: Pursuant to section 102(2)(C) of the National Environmental Policy Act of 1969; the Council on Environmental Quality Guidelines (40 CFR part 1500); and the Natural Resources Conservation Service Guidelines (7 CFR part 650); the Natural Resources Conservation Service, U.S. Department of Agriculture, gives notice that an environmental impact statement is not being prepared for the Southern Washington County Watershed Protection Project, Washington County, Idaho.

FOR FURTHER INFORMATION CONTACT: Richard Sims, State Conservationist, Natural Resources Conservation Service, 9173 W. Barnes Dr., Suite C, Boise, Idaho 83709-1574, telephone (208) 378-5700.

SUPPLEMENTARY INFORMATION: The Plan/Environmental Assessment of this federally assisted action indicates that the project will not cause significant local, regional, or national adverse impacts affecting the quality of the human environment. As a result of these findings, Richard Sims, State Conservationist, has determined that the preparation and review of an environmental impact statement are not needed for this project.

The Southern Washington County Watershed Protection Project consists of a system of land treatment measures designed to address the problems associated with degradation of ground water quality and surface water quality in the Weiser and Snake Rivers. Benefits will be realized from reduced groundwater contamination by reducing deep leaching of nutrients and pesticides to the Western Snake River Plain Aquifer (Southern Washington County), protection of long-term soil productivity, reduced irrigation-induced erosion and reduced sediment, nutrient, pesticide and pathogen delivery to the Weiser and Snake Rivers and area tributaries. Planned treatment practices include: irrigation system-gated pipe (with surge), micro (drip) irrigation, tail water recovery systems, sprinkler re-nozzle, sprinkler systems, irrigation water management (moisture sensors and meters) and sediment basins. Management practices include: conservation crop rotation, irrigation water management, nutrient management, anionic polyacrylamide PAM erosion control, pest management, prescribed grazing, residue management (mulch till and seasonal), and straw mulch.

The Notice of Finding of No Significant Impact (FONSI) has been forwarded to the Environmental Protection Agency. The basic data developed during the plan/environmental assessment is on file and may be reviewed by contacting Mr. Richard Sims. The FONSI has been sent to various Federal, State, and local agencies, and interested parties. A limited number of copies of the FONSI are available to fill single copy requests at the address stated above. No administrative action on the proposal will be initiated until 30 days after the date of this publication in the Federal Register.

(This activity is listed in the Catalog of Federal Domestic Assistance under No. 10.904, Watershed Protection and Flood Prevention, and is subject to the provisions of Executive Order 12372, which requires intergovernmental consultation with State and local officials.)

Dated: March 7, 2006.
Mark Weatherstone,
Acting State Conservationist.

[FR Doc. E6-3545 Filed 3-13-06; 8:45 am]

BILLING CODE 3410-16-P